DEPARTMENT OF THE INTERIOR

National Park Service

National Register of Historic Places; Notification of Pending Nominations

Nominations for the following properties being considered for listing in the National Register were received by the National Park Service before July 14, 2001. Pursuant to section 60.13 of 36 CFR Part 60 written comments concerning the significance of these properties under the National Register criteria for evaluation may be forwarded to the National Register, National Park Service, 1849 C St. NW., NC400, Washington, DC 20240. Written comments should be submitted by August 16, 2001.

Carol D. Shull,
Keeper of the National Register.

ARIZONA

Pima County

Ajo Townsite Historic District, Blks. 1 through 31,Ajo, 01000877

CALIFORNIA

Napa County

Beringer Brothers—Los Hermanos Winery,2000 Main St.,Saint Helena, 01000878

CONNECTICUT

Fairfield County

Glover, John, House,53 Echo Valley Rd.,Newtown, 01000882

Hartford County

Colt Industrial District (Boundary Increase),34 Sequassen St., 1-3 and 17 Van Dyke Ave. and 47, 49, 50 and 53 Vredendale Ave.,Hartford, 01000884

Manchester Historic District (Boundary Increase),Roughly bounded by E. Center, Harrison, Norman, Charter Oak, Main and Cottage Sts.,Manchester, 01000881

Litchfield County

Minortown Road Bridge,Minortown Rd. over Nonewaug R.,Woodbury, 01000883

New Haven County

Wooster Sawmill and Gristmill Site,Address Restricted,Oxford, 01000879

New London County

Springbank,69 Neck Rd.,Old Lyme, 01000880

DELAWARE

New Castle County

Cloud—Reese House,2202 Old Kennett Rd.,Wilmington, 01000885

Sussex County

Ross Point School,CR 448 near Jct. with Rt. 62,Laurel, 01000886

FLORIDA

Indian River County

Sebastian Grammar and Junior High School,1225 Main St.,Sebastian, 01000889

Manatee County

Stevens—Gilchrist House,(Whitfield Estates Subdivision MPS)235 Delmar Ave.,Sarasota, 01000887

Palm Beach County

House at 1240 Dickenson Road,1240 Dickenson Rd.,Boca Raton, 01000888

St. Lucie County

Moores Creek Bridge, N. 2nd St. between Aves. B and C,Fort Pierce, 01000890

NEW JERSEY

Bergen County

New Milford Plant of the Hackensack Water Company,New Milford Ave.,Oradell, 01000891

NEW YORK

Chenango County

Pitcher Baptist Church and First Congregational Church of Pitcher,NY 26,Pitcher, 01000893

Delaware County

Hubbell Family Farm and Kelly's Corners Cemetery,NY 30,Kelly's Corners, 01000892

OHIO

Cuyahoga County

Cleveland Masonic Temple,3615 Euclid Ave.,Cleveland, 01000894

Waterman Service Building,3030 E. 63rd St.,Cleveland, 01000897

West Technical High School,2201 W. 93rd St.,Cleveland, 01000898

Gallia County

Gallipolis Historic District,Roughly bounded by 3rd Ave., Vine and Spruce Sts. and the Ohio R.,Gallipolis, 01000899

Montgomery County

Stivers High School,1313 E. 5th St.,Dayton, 01000896

Portage County

Kent Jail,947 Middlebury Rd.,Kent, 01000895

Washington County

Marietta Historic District (Boundary Increase),Roughly bounded by Marion, Montgomery, Ohio, Greene, Butler, 2nd through 9th Sts., and Ohio and Muskingum Rs.,Marietta, 01000903

WISCONSIN

Outagamie County

West Prospect Avenue Historic District,315-330 West Prospect Ave.,Appleton, 01000900

[FR Doc. 01-19114 Filed 7-31-01; 8:45 am]

BILLING CODE 4310-70-P